DEPARTMENT OF ENERGY

Federal Energy Regulatory Commission

[Docket No. IC23-15-000]

Commission Information Collection Activities (FERC-516H) Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-516H, (Electric Rate Schedules and Tariff Filings, Pro Forma Open Access Transmission Tariff).

ADDRESSES: You may submit your comments (identified by Docket No. IC23-4-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, Office of the Secretary, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, telephone at (202) 502-8663.

SUPPLEMENTARY INFORMATION:

Title: FERC-516H, Electric Rate Schedules and Tariff Filings, Pro Forma Open Access Transmission Tariff.

OMB Control No.: 1902-0303.

Type of Request: Three-year extension of the FERC-516H information collection requirements with no changes to the current reporting requirements.

Abstract: This information collection request pertains to a final rule ¹ that, pursuant to section 206 of the Federal Power Act (FPA),² requires respondents that are subject to 18 CFR 35.28 to submit compliance filings within 120 days of the effective date of the final rule that add a new Attachment M to their pro forma Open Access Transmission Tariffs (OATTs). The effective date of the final rule is March 14, 2022. The OATT compliance filing is due July 12, 2022.

¹ 87 FR 2244 (January 13, 2022).

² 16 U.S.C. 824e.

FERC 516H: The regulation at 18 CFR 35.28, which pertains to non-discriminatory open access transmission tariffs, applies to:

• Commission-jurisdictional public utilities that own, control, or operate facilities used for the transmission of electric energy in interstate commerce; and

• Non-jurisdictional utilities that seek voluntary compliance with jurisdictional transmission tariff reciprocity conditions.

In Order No. 881, the Commission added 18 CFR 35.28(c)(5) to require any public utility that owns transmission facilities that are not under the public utility's control to, consistent with the pro forma OATT required by 18 CFR 35.28(c)(1), share with the public utility that controls such facilities (and its Market Monitoring Unit(s), if applicable):

(i) Transmission line ratings for each period for which transmission line ratings are calculated for such facilities (with updated ratings shared each time ratings are calculated); and

(ii) Written transmission line rating methodologies used to calculate the transmission line ratings for such facilities provided under subparagraph (i), above.

Additionally, 18 CFR 35.28(c) requires each public utility transmission provider to have on file with the Commission and adhere to the Commission's pro forma Open Access Transmission Tariff (OATT). In Order No. 881, the Commission added Attachment M of the Commission's pro forma OATT to require each jurisdictional transmission provider to maintain on the password-protected section of its OASIS page or on another password-protected website a database of transmission line ratings and transmission line rating methodologies. Such transmission line ratings and transmission line rating methodologies are to be calculated and provided by transmission owners. The database must include a full record of all transmission line ratings, both as used in real-time operations, and as used for all future periods for which transmission service is offered. Additionally, Attachment M of the Commission's pro forma OATT requires transmission providers, as the regulated entities, to share transmission line ratings and methodologies with any transmission provider(s) upon request and in a timely manner.

Type of Respondent: Transmission Owners.

Estimate of Annual Burden: ³ The Commission estimates the annual public reporting burden for the information collection as below:

³ “Burden” is the total time, effort, or financial resources expended by persons to generate, maintain, retain, or disclose or provide information to or for a Federal agency. For further explanation of what is included in the information collection burden, refer to 5 CFR 1320.3.

Area of modification | Number of respondents | Annual estimated number of responses per respondent | Annual estimated number of responses (column B × column C) | Average burden hours & cost ¹ per response | Total estimated burden hours & total estimated cost (column D × column E)
A. | B. | C. | D. | E. | F.
FERC-516H (Control No. 1902-0303)
Transmission owners update forecasts and ratings, and share transmission line ratings and facility ratings methodologies w/transmission providers and, if applicable, RTOs/ISOs & market monitors (Year 1 and Ongoing) | 289 (TOs) | 1 | 289 | 176 hrs; $16,192 | 50,864 hrs; $4,679,488.
¹ The hourly cost (for salary plus benefits) uses the figures from the Bureau of Labor Statistics (BLS) for three positions involved in the reporting and recordkeeping requirements. These figures include salary (based on BLS data for May 2023, http://bls.gov/oes/current/naics2_22.htm) and benefits (based on BLS data issued March 19, 2022, http://www.bls.gov/news.release/ecec.nr0.htm) and are Manager (Code 11-0000 $106.33/hour), Electrical Engineer (Code 17-2071 $77.29/hour). The hourly cost for the reporting requirements ($91.81 = $92 rounded) is an average of the cost of a manager and engineer.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 22, 2023.
Debbie-Anne A. Reese,
Deputy Secretary.

[FR Doc. 2023-21259 Filed 9-27-23; 8:45 am]

BILLING CODE 6717-01-P